DEPARTMENT OF TRANSPORTATION

Coast Guard

[USCG-2003-14501]

Merchant Marine Personnel Advisory Committee

AGENCY: Coast Guard, DOT.

ACTION: Notice of open teleconference meeting.

SUMMARY: This notice announces a teleconference of the Merchant Marine Personnel Advisory Committee (MERPAC). The purpose of the teleconference is for MERPAC to discuss and prepare comments to the docket of the Coast Guard's national security legislation for merchant vessel personnel [USCG-2002-14069]. MERPAC provides advice and makes recommendations to the Coast Guard on matters related to the training, qualification, licensing, certification, and fitness of seamen serving in the U.S. merchant marine.

DATES: The teleconference call will take place on Tuesday, March 4, 2003, from 1 p.m. until 2 p.m., EST.

ADDRESSES: Members of the public may participate by dialing 1-202-493-2151. Public participation is welcomed; however, the number of teleconference lines is limited, and lines are available first-come, first-served. Members of the public may also participate by coming to Room 1204, U.S. Coast Guard Headquarters, 2100 Second Street, SW., Washington, DC 20593-0001. We request that members of the public who plan to attend this meeting notify Mr. Mark Gould at 202-267-6890 so that he may notify building security officials. You may also gain access to this docket at http://dms.dot.gov/search/searchFormSimple.cfm.

FOR FURTHER INFORMATION CONTACT: Commander Brian J. Peter, Executive Director of MERPAC, or Mr. Gould, Assistant to the Executive Director, telephone 202-267-0213, fax 202-267-4570.

SUPPLEMENTARY INFORMATION: The Federal Advisory Committee Act requires that public notice of these meetings be announced in the Federal Register [5 U.S.C. App. 2]. MERPAC is chartered under that Act. It provides advice and makes recommendations to the Assistant Commandant for Marine Safety, Security, and Environmental Protection, on issues of merchant marine personnel such as implementation of the International Convention on Standards of Training, Certification and Watchkeeping for Seafarers (STCW), 1978, and developing standards of competency for ship's security officers.

Tentative Agenda

Tuesday, March 4, 2003

1 p.m.-1:05 p.m.

Welcome and Opening Remarks—MERPAC Chairman Andrew McGovern.

1:05 p.m.-1:30 p.m.

Open discussion on the docket of the Coast Guard's national security legislation affecting merchant vessel personnel.

1:30 p.m.-1:50 p.m.

Public comment period.

1:50 p.m.

MERPAC vote on recommended comments to the docket.

2 p.m.

Adjourn.

This tentative agenda is subject to change.

Public Participation

The Chairman of MERPAC is empowered to conduct the teleconference in a way that will, in his judgment, facilitate the orderly conduct of business. During its teleconference, the committee welcomes public comment. The committee will make every effort to hear the views of all interested parties, including the public. Written comments may be submitted to CDR Brian J. Peter, Executive Director, MERPAC, Commandant (G-MSO-1), 2100 Second Street, SW., Washington DC 20593-0001.

Minutes

The teleconference will be recorded, and a summary will be available for public review and copying about 30 days following the teleconference meeting at http://www.uscg.mil/hq/g-m/advisory/merpac/merpac.htm. This summary will also be available for viewing in the Docket at http://dms.dot.gov.

Dated: February 12, 2003.
Howard L. Hime,
Acting Director of Standards, Marine Safety, Security, and Environmental Protection.

[FR Doc. 03-3977 Filed 2-18-03; 8:45 am]

BILLING CODE 4910-15-P